DEPARTMENT OF EDUCATION

National Assessment Governing Board; Meeting

AGENCY: National Assessment Governing Board; Education.

ACTION: Notice of Open Meeting and Partially Closed Meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than February 23, 2007. We will attempt to meet requests after this date, but cannot guarantee availability of the requested accommodation. The meeting site is accessible to individuals with disabilities.

DATES: March 1-3, 2007.

Times:

March 1

Committee Meetings:

Assessment Development Committee: Closed Session—9 a.m. to 4 p.m.;

Reporting and Dissemination Committee: Open Session—3 p.m. to 4:30 p.m.;

Executive Committee: Open Session—4:30 p.m. to 5 p.m.; Closed Session 5 p.m. to 6 p.m.

March 2

Full Board: Open Session—8:30 a.m. to 12:15 p.m.; Closed Session—12:15 p.m. to 1:45 p.m.; Open Session—1:45 p.m. to 3 p.m.; Closed Session—3 p.m. to 4 p.m.

Committee Meetings:

Assessment Development Committee: Open Session—9:45 a.m. to 12:15 p.m;

Committee on Standards, Design and Methodology: Open Session—9:45 a.m. to 12:15 p.m.;

Reporting and Dissemination Committee: Open Session—9:45 a.m. to 12:15 p.m.;

March 3

Nominations Committee: Closed Session—7:30 a.m. to 8:30 a.m.

Full Board: Closed Session—9 a.m. to 9:30 a.m.; Open Session—9:30 a.m. to 12 p.m.

Location: The Loews Vanderbilt Hotel, 2100 West End Avenue, Nashville, TN 37203.

FOR FURTHER INFORMATION CONTACT: Munira Mwalimu, Operations Officer, National Assessment Governing Board, 800 North Capitol Street, NW., Suite 825, Washington, DC 20002-4233, Telephone (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national corporations.

The Assessment Development Committee will meet in closed session on March 1 from 9 a.m. to 4 p.m. to review secure test questions for the National Assessment of Educational Progress (NAEP) reading and mathematics NAEP Long-term Trend assessments conducted at ages 9, 13, and 17 in 2008. The meeting must be conducted in closed session as disclosure of proposed test items for the reading and mathematics assessments would significantly impede implementation of the NAEP program, and is therefore protected by exemption 9(B) of section 552b(c) of Title 5 U.S.C.

The Reporting and Dissemination Committee will meet in open session on March 1 from 3 p.m. to 4:30 p.m. Thereafter the Executive Committee will meet in open session from 4:30 p.m. to 5 p.m. The Committee will meet in closed session from 5 p.m. to 6 p.m. to receive independent government cost estimates from the National Center for Education Statistics (NCES), for proposed contracts for item development, data collection, scoring and analysis, and reporting of NAEP results for 2007-2012, and their implications on future NAEP activities. The discussion of independent government cost estimates prior to the development of the Request for Proposals for the NAEP 2007-2012 contracts is necessary for ensuring that NAEP contracts meet congressionally mandated goals and adhere to Board policies on NAEP assessments. This part of the meeting must be conducted in closed session because public disclosure of this information would likely have an adverse financial effect on the NAEP program and would provide an advantage to potential bidders attending the meeting. Discussion of this information would be likely to significantly impede implementation of a proposed agency action if conducted in open session. Such matters are protected by exemption 9(B) of section 552b(c) of Title 5 U.S.C.

On March 2, the full Board will meet in open session from 8:30 a.m. to 12:15 p.m. From 8:30 a.m. to 9 a.m. the Board will approve the agenda, followed by welcome remarks and Oath of Office ceremonies for new Board members. The Board will then receive the Executive Director's report and hear an update on the work of the National Center for Education Statistics (NCES).

From 9:45 a.m. to 12:15 p.m. on March 2, the Board's standing committees—the Assessment Development Committee; the Committee on Standards, Design and Methodology; and the Reporting and Dissemination Committee—will meet in open session.

On March 2, the full Board will meet in closed session from 12:15 p.m. to 1:45 p.m. The Board will receive a briefing provided by the Associate Commissioner of the National Center for Education Statistics on secure national student achievement data related to upcoming NAEP reports, including results for the 2006 assessments in U.S. history and in civics, and a report comparing NAEP and state proficiency standards. The Governing Board will be provided with embargoed data that cannot be discussed in an open meeting prior to their official release. The meeting must therefore be conducted in closed session as disclosure of data would significantly impede implementation of The Nation's Report Card initial release activities, as protected by exemption 9(B) of section 552b(c) of Title 5 U.S.C.

On March 2 from 2 p.m. to 3 p.m. the Board will discuss and take action on the NAEP 2011 Writing Framework. Thereafter, the full Board will meet in closed session from 3 p.m. to 4 p.m. to receive a secure briefing on the pilot study results from the 2006 NAEP Economics Achievement Level Setting for Grade 12. This briefing will involve discussion of secure NAEP performance results, achievement level findings from the pilot study, and secure NAEP questions. These data constitute a major basis for the national release of the NAEP Grade 12 Economics results, and cannot be released in an open meeting prior to the official release of the reports. The meeting must therefore be conducted in closed session as disclosure of data would significantly impede implementation of the NAEP release activities, and is therefore protected by exemption 9(B) of section 552b(c) of Title 5 U.S.C.

On March 3, the Nominations Committee will meet in closed session from 7:30 a.m. to 8:30 a.m. to review and discuss confidential information regarding nominees received for Board vacancies for terms beginning on October 1, 2007. The Nominations Committee will prepare a final slate of candidates for each Board vacancy and make recommendations to the full Board. The full Board will then consider these nominations in closed session on March 3 from 9 a.m. to 9:30 a.m. During this closed session, the full Board will review and take action on the final slate of candidates for open Board positions. After review, the Board will submit the recommended candidates to the Secretary of Education for her review and action. These discussions pertain solely to internal personnel rules and practices for an agency and will disclose information of a personal nature where disclosure would constitute an unwarranted invasion of personal privacy. As such, the discussions are protected by exemptions 2 and 6 of section 552b(c) of Title 5 U.S.C.

The full Board will meet in open session on March 3 from 9:30 a.m. to 12 noon. From 9:30 a.m. to 10 a.m. the Board will discuss academic standards initiatives. Board actions on policies and Committee reports are scheduled to take place between 10:15 a.m. and 12 p.m., upon which the March 3, 2007 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education. National Assessment Governing Board, Suite #825, 800 North Capitol Street, NW., Washington, DC, from 9 a.m. to 5 p.m. Eastern Standard Time.

Dated: February 6, 2007.
Charles E. Smith,
Executive Director, National Assessment Governing Board.

[FR Doc. 07-603 Filed 2-9-07; 8:45 am]

BILLING CODE 4000-01-M